DEPARTMENT OF STATE

[Public Notice: 12741]

Determination Pursuant to Section 2(b)(2) of the Migration and Refugee Assistance Act of 1962

Pursuant to section 2(b)(2) of the Migration and Refugee Assistance Act of 1962 (22 U.S.C. 2601(b)(2)), Presidential Determination Number 99-6 of November 30, 1998, and Department of State Delegation 513, I hereby determine that assistance to or on behalf of migrants in need of assistance without legal basis to remain in the United States to voluntarily return to their country of origin or country of legal status will contribute to the foreign policy interests of the United States and designate such persons for this purpose.

This determination shall be transmitted to the President and published in the Federal Register.

Dated: May 7, 2025.
Christopher Landau,
Deputy Secretary of State.

[FR Doc. 2025-09808 Filed 5-29-25; 8:45 am]

BILLING CODE 4710-33-P